DEPARTMENT OF THE INTERIOR

National Park Service

Lower East Side Tenement National Historic Site, New York, New York; Notice of Intent To Prepare an Environmental Assessment and Notice of Public Meetings

In accordance with the National Environmental Policy Act of 1969 (Pub. L. 91-109 section 102(c)), the National Park Service (NPS) is preparing an Environmental Assessment (EA) for the Lower East Side Tenement National Historic Site (NHS), located in the city of Borough of Manhattan, New York, New York. The purpose of the EA is to assess the environmental consequences of alternative management strategies that will be described in the general management plan for Lower East Side Tenement NHS. A number of alternatives will be formulated for cultural resource protection, visitor use and interpretation, facilities development, and operations.

The NPS will hold a public meeting June 14, 2000 that will provide an opportunity for public input into the scoping for the GMP/EA. The meeting will begin at 7:00 PM, at the Lower East Side Tenement Museum, 97 Orchard Street, New York, New York.

The purpose of this meeting is to obtain both written and verbal comments concerning the future direction and development of Lower East Side NHS. Those persons who wish to comment verbally or in writing or who require further information should contact Ruth Abram, President, Lower East Side Tenement Museum. 66 Allen Street, New York, New York 10002, (212) 431-0233 Ext. 212.

The draft GMP/EA is expected to be completed and available for public review in fall 2000. After public and interagency review of the draft document comments will be considered, and a final EA followed by a Record of Decision will be prepared.

Dated: May 15, 2000.
Thomas Dyer,
Chief of Planning, Northeast Region Development Office.

[FR Doc. 00-13911 Filed 6-2-00; 8:45 am]

BILLING CODE 4310-70-P